DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This notice is a notice of intent to award supplemental funding to the nine Minority Fellowship recipients funded in FY 2018 under Notice of Funding Opportunity (NOFO) SM-18-002 and TI-18-013 and in FY 2020 under NOFO SM-20-013. This is to inform the public that the Substance Abuse and Mental Health Services Administration (SAMHSA) is supporting one-year administrative supplements, which are consistent with the initial award, up to $209,996 each for eight Minority Fellowship Program (MFP) recipients funded under NOFO SM-18-002 and SM-20-013, and up to $119,053 for the MFP recipient funded under NOFO TI-18-013, for a total of $1,799,019.

FOR FURTHER INFORMATION CONTACT: Sheryl Crawford, Center for Substance Abuse Treatment, SAMHSA, 5600 Fishers Lane, Rockville, MD 20857, telephone (240) 276-1063; email: sheryl.crawford@samhsa.hhs.gov.

SUPPLEMENTARY INFORMATION: The MFP program is comprised of professional organizations representing mental and substance use disorder treatment professionals in the fields of psychiatry, nursing, social work, psychology, marriage and family therapy, mental health counseling, substance use disorder and addiction counseling and addiction psychiatry and medicine. This supplement will enhance and increase the behavioral health workforce knowledge related to prevention, treatment, and recovery support for mental illness and substance use disorders among racial and ethnic minority populations by providing specialized training among the MFP professional organizations. Assistance will only be provided to the nine MFP recipients, which were funded in FY 2018 under SM-18-002 and TI-18-002 with a project end date of September 29, 2023, and FY 2020 under SM-20-013 with a project end date of August 30, 2025.

This is not a formal request for application. Assistance will only be provided to the nine MFP grant recipients, based on the receipt of a satisfactory application and associated budget that is approved by a review group.

Funding Opportunity Title: FY 2018 Minority Fellowship Program (MFP) NOFO SM-18-022 and TI-18-013 and FY 2020 MFP NOFO SM-20-013.

Assistance Listing Number: 93.243.

Authority: The MFP is authorized under section 597 of the Public Health Service Act, as amended.

Justification: Eligibility for this supplemental funding is limited to the nine MFP organizations funded in FY 2018 and FY 2020. These organizations have the required expertise to provide specialized training to increase behavioral health professionals' knowledge related to prevention, treatment, and recovery support for mental illness and substance use disorders among racial and ethnic minority populations.

Carlos Graham,
Reports Clearance Officer.

[FR Doc. 2022-20321 Filed 9-19-22; 8:45 am]

BILLING CODE 4162-20-P